DEPARTMENT OF THE INTERIOR

National Park Service

Notice of Meetings for the National Park Service (NPS) Subsistence Resource Commission (SRC) Program Within the Alaska Region

AGENCY: National Park Service, Interior.

SUMMARY: The NPS announces the SRC meeting schedule for the following areas: Gates of the Arctic National Park and Lake Clark National Park. The purpose of each meeting is to develop and continue work on subsistence hunting program recommendations and other related subsistence management issues. Each meeting is open to the public and will have time allocated for public testimony. The public is welcome to present written or oral comments to the SRC. Each meeting will be recorded and a summary will be available upon request from each Superintendent for public inspection approximately six weeks after each meeting.

The NPS SRC program is authorized under Title VIII, Section 808 of the Alaska National Interest Lands Conservation Act, Public Law 96-487, to operate in accordance with the provisions of the Federal Advisory Committee Act.

DATES: The Gates of the Arctic National Park SRC meeting will be held on Wednesday, April 25, 2007, and Thursday, April 26, 2007, from 9 a.m. to 5 p.m., Alaska Standard Time.

Location: Sophie Station Hotel, 1717 University Ave., Fairbanks, AK, telephone: (907) 479-3650. Please note the meeting may end early if all business is finished.

FOR FURTHER INFORMATION CONTACT: Dave Mills, Superintendent, Superintendent, and Fred Anderson, Subsistence Manager, Gates of the Arctic National Park and Preserve, 4175 Geist Road, AK, telephone: (907) 457-5752.

DATES: The Lake Clark National Park SRC meeting and teleconference will be held on Monday, April 30, 2007, from 10 a.m. to 12 p.m., Alaska Standard Time.

Location: The Lake Clark National Park and Preserve Visitor Center, Port Alsworth, AK. Interested public may participate in the teleconference by dialing (888) 396-9927, passcode: 23098. Please note the meeting and teleconference may end early if all business is finished.

FOR FURTHER INFORMATION CONTACT: Mary McBurney, Subsistence Manager, telephone: (907) 235-7891, Joel Hard, Superintendent, telephone: (907) 644-3627, and Michelle Ravenmoon, Subsistence Coordinator, telephone: (907) 781-2218, at Lake Clark National Park and Preserve, 1 Park Place, Port Alsworth, AK.

SUPPLEMENTARY INFORMATION: SRC meeting locations and dates may need to be changed based on weather or local circumstances. If meeting dates and locations are changed notice of each meeting will be published in local newspapers and announced on local radio stations prior to the meeting dates.

The agenda for each meeting include the following:

1. Call to order (SRC Chair).

2. SRC Roll Call and Confirmation of Quorum.

3. SRC Chair and Superintendent's Welcome and Introductions.

4. Review and Approve Agenda.

5. Status of SRC Membership.

6. SRC Member Reports.

7. Superintendent and NPS Staff Reports.

8. Federal Subsistence Board Update.

9. State of Alaska Board and Committee Actions Update.

10. New Business.

11. Agency and Public Comments.

12. SRC Work Session.

13. Set time and place of next SRC meeting.

Adjournment.

Victor Knox,
Acting Director, Alaska Region.

[FR Doc. 07-1863 Filed 4-13-07; 8:45 am]

BILLING CODE 4312-HK-M